NATIONAL AERONAUTICS AND SPACE ADMINISTRATION

[Notice (19-010)]

National Space Council Users' Advisory Group; Meeting

AGENCY: National Aeronautics and Space Administration.

ACTION: Notice of meeting.

SUMMARY: In accordance with the Federal Advisory Committee Act, as amended, the National Aeronautics and Space Administration (NASA) announces a meeting of the National Space Council Users' Advisory Group (UAG). This will be the third meeting of the UAG.

DATES: Monday, April 8, 2019, from 1:00 p.m.-3:00 p.m., Mountain Time.

ADDRESSES: The Broadmoor Hotel, International Center, 21 Lake Circle, Colorado Springs, CO 80906.

FOR FURTHER INFORMATION CONTACT: Mr. Brandon Eden, UAG Designated Federal Officer/Executive Secretary, NASA Headquarters, Washington, DC 20546, (202) 358-2470 or brandon.t.eden@nasa.gov.

SUPPLEMENTARY INFORMATION: This meeting will be open to the public via teleconference and WebEx. You must use a touch-tone phone to participate in this meeting telephonically. Any interested person may dial the Toll Free Number 888-566-6150 and then the numeric passcode 1725248, followed by the # sign. Note: If dialing in, please “mute” your phone. To join via WebEx, the link is: https://nasaenterprise.webex.com/nasaenterprise/onstage/g.php?MTID=e60aca667e6bc1c470401c174a95b6eae. The meeting number on April 8 is 907 418 615 and the meeting password is 5mXNcyk@(case sensitive). Those wishing to attend in person will be asked to complete a free registration via a link that will be available on the UAG website. This step is necessary to ensure a smooth entry process, manage room capacity, and assist with security at the 35th Space Symposium taking place concurrently with the UAG meeting. Members of the public wishing to attend in person are asked to complete their free registration no later than 24 hours in advance of the meeting. Separate registration for the Space Symposium itself is not required to attend the meeting.

The agenda for the meeting will include the following:

—Opening Remarks by UAG Chairman

—Deliberation of Proposed Findings and Recommendations from Selected Subcommittees

—Remarks on Space Force by Invited Speakers

—Remarks on Spectrum Use by Invited Speakers

—Other UAG Business and Public Input

Attendees will be requested to identify themselves and their organization prior to joining by teleconference or WebEx, and will be asked to sign a register prior to entering the meeting room in person. For further information about the UAG, agenda updates, and registration, visit the UAG website at: https://www.nasa.gov/content/national-space-council-users-advisory-group. It is imperative that the meeting be held on this date to accommodate the scheduling priorities of the key participants.

Patricia Rausch,
Advisory Committee Management Officer, National Aeronautics and Space Administration.

[FR Doc. 2019-05531 Filed 3-21-19; 8:45 am]

BILLING CODE 7510-13-P